DEPARTMENT OF HEALTH AND HUMAN SERVICES

Health Resources and Service Administration

Advisory Committee on Interdisciplinary, Community-Based Linkages; Notice of Meeting

In accordance with section 10(a) (2) of the Federal Advisory Committee Act (Pub. L. 92-463), notice is hereby given of the following meeting:

Name: Advisory Committee on Interdisciplinary, Community-Based Linkages (ACICBL).

Date And Time: July 2, 2014 (10:00 a.m.—4:00 p.m.).

Place: Webinar and Conference Call Format.

Status: The meeting will be open to the public.

Purpose: The members of the ACICBL will begin the planning required to develop the legislatively mandated 14th Annual Report to the Secretary of Health and Human Services and Congress. The meeting objectives are to: (1) Orient new members to the work of the ACICBL, (2) provide an update on training programs; (3) focus on a relevant topic that will enhance the mission of the Title VII—Part D training programs; and (4) develop an outline that will inform the development of the 14th Annual Report.

Agenda: The ACICBL agenda includes an opportunity for each member to offer ideas for the upcoming report, along with identifying consultants in specific areas who could provide expert testimony. The staff writer provided by the Health Resources and Services Administration (HRSA), Bureau of Health Workforce, will offer a strategy for outlining the upcoming report. The agenda will be available 2 days prior to the meeting on the HRSA Web site (http://www.hrsa.gov/advisorycommittees/bhpradvisory/acicbl/acicbl.html). Agenda items are subject to change as priorities dictate.

Requests to make oral comments or provide written comments to the ACICBL should be sent to Dr. Joan Weiss, Designated Federal Official, using the address and phone number below. Individuals who plan to participate on the conference call should notify Dr. Weiss at least 3 days prior to the meeting, using the address and phone number below. Members of the public will have the opportunity to provide comments. Interested parties should refer to the meeting subject as the HRSA Advisory Committee on Interdisciplinary, Community-Based Linkages.

The conference call-in number is 1-800-369-1867. The passcode is: 8803797. The webinar link is https://hrsa.connectsolutions.com/acicblreport14/.

SUPPLEMENTARY INFORMATION: Members of the public and interested parties may request to provide comments or attend the meeting via conference call and webinar by emailing their first name, last name, and full email address to Dr. Joan Weiss using the address and phone number below. Access is by invitation only. The logistical challenges of scheduling this meeting hindered an earlier publication of this meeting notice.

FOR FURTHER INFORMATION CONTACT: Anyone requesting information regarding the ACICBL should contact Dr. Joan Weiss, Designated Federal Official within the Bureau of Health Workforce, Health Resources and Services Administration, in one of three ways: (1) Send a request to the following address: Dr. Joan Weiss, Designated Federal Official, Bureau of Health Workforce, Health Resources and Services Administration, Parklawn Building, Room 9C-05, 5600 Fishers Lane, Rockville, Maryland 20857; (2) call (301) 443-0430; or (3) send an email to jweiss@hrsa.gov.

Dated: June 19, 2014.
Jackie Painter,
Acting Director, Division of Policy and Information Coordination.

[FR Doc. 2014-14802 Filed 6-24-14; 8:45 am]

BILLING CODE 4165-15-P